NUCLEAR REGULATORY COMMISSION

[NRC-2009-0324]

Biweekly Notice; Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 2, 2009 to July 15, 2009. The last biweekly notice was published on July 14, 2009 (74 FR 34044).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139), The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the petitioner/requestor should contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer ™ to access the Electronic Information Exchange (EIE), a component of the E-Filing system. The Workplace Forms Viewer ™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC Meta-System Help Desk, which is available between 8 a.m. and 8 p.m., Eastern Time, Monday through Friday, excluding government holidays. The Meta-System Help Desk can be contacted by telephone at 1-866-672-7640 or by e-mail at MSHD.Resource@nrc.gov.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the request and/or petition should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Arizona Public Service Company, et al., Docket Nos. STN 50-528, STN 50-529, and STN 50-530, Palo Verde Nuclear Generating Station, Units 1, 2, and 3, Maricopa County, Arizona

Date of Amendment Request: May 28, 2009.

Description of Amendment Request: The amendments would delete those portions of the Technical Specifications (TSs) for Palo Verde Nuclear Generating Station, Units 1, 2, and 3 that are superseded by the new requirements regarding working hours for nuclear plant staff in 10 CFR part 26, subpart I. This change is consistent with U.S. Nuclear Regulatory Commission (NRC)-approved Technical Specification Task Force (TSTF) Improved Standard Technical Specification change traveler, TSTF-511, Revision 0, “Eliminate Working Hour Restrictions from TS 5.2.2 to Support Compliance with 10 CFR Part 26.”

The NRC issued a “Notice of Availability of Model Safety Evaluation, Model No Significant Hazards Determination, and Model Application for Licensees That Wish to Adopt TSTF-511, Revision 0, ‘Eliminate Working Hour Restrictions from TS 5.2.2 to Support Compliance with 10 CFR part 26,’ ” in the Federal Register on December 30, 2008 (73 FR 79923). In its application dated May 28, 2009, the licensee affirmed the applicability of the model no significant hazards consideration.

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrent with or after the implementation of the 10 CFR Part 26, Subpart I, requirements. In the event NRC approval for the requested amendment is not obtained before October 1, 2009, the amendment shall be implemented within 30 days of NRC approval and APS [Arizona Public Service Company] shall comply with the new 10 CFR 26, Subpart I, requirements and current Technical Specifications until the approved TS changes are implemented. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated. Therefore, it is concluded that this change does not involve a significant increase in the probability or consequences of an accident previously evaluated.

Criterion 2: The Proposed Change Does Not Create the Possibility of a New or Different Kind of Accident from Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and, thereby, create the possibility of a new or different kind of accident from any accident previously evaluated. The proposed change does not alter the plant configuration, require new plant equipment to be installed, alter accident analysis assumptions, add any initiators, or affect the function of plant systems or the manner in which systems are operated, maintained, modified, tested, or inspected. Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition. Removal of plant-specific Technical Specification administrative requirements will not reduce a margin of safety because the requirements in 10 CFR part 26 are adequate to ensure that worker fatigue is managed. Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Michael T. Markley.

FirstEnergy Nuclear Operating Company, et al., Docket No. 50-346, Davis-Besse Nuclear Power Station, Unit No. 1, Ottawa County, Ohio

Date of Amendment Request: June 2, 2009.

Description of Amendment Request: The proposed amendment would revise the Davis-Besse Nuclear Power Station, Unit No. 1 (DBNPS) Technical Specifications (TS) 3.3.9, “Source Range Neutron Flux,” and TS 3.9.2, “Nuclear Instrumentation,” to exclude testing the source range neutron flux instrument channel preamplifier from the CHANNEL CALIBRATION requirements of the source range neutron flux instrument channels.

Basis for Proposed No Significant Hazards Consideration Determination: As required by 10 CFR 50.91(a), the licensee has provided its analysis of the issue of no significant hazards consideration, which is presented below:

1. Does the proposed change involve a significant increase in the probability or consequences of an accident previously evaluated?

Response: No.

The proposed TS change excludes the source range neutron flux instrument channel preamplifier from the CHANNEL CALIBRATION requirements for the source range neutron flux instrument channel. The source range neutron flux instrument channels are not involved in accident mitigation. The failure of a source range neutron flux channel does not initiate an accident or transient event. The proposed TS change does not alter the design or function of the source range neutron flux instrument channels, since no physical changes are being made to the plant. The availability of additional equipment to provide source range indication for comparison with the source range neutron flux instrument channels provides assurance of channel operation.

Therefore, the proposed TS change does not involve a significant increase in the probability or consequences of an accident previously evaluated.

2. Does the proposed change create the possibility of a new or different kind of accident from any accident previously evaluated?

Response: No.

The proposed TS change excludes the source range neutron flux instrument channel preamplifier from the CHANNEL CALIBRATION requirements for the source range neutron flux instrument channel. Based upon the current channel testing performed and the availability of alternate source range neutron flux indication for comparison, the operation of the source range neutron flux instrument channel is assured. The proposed TS change does not introduce any failure mechanisms of a different type than those previously evaluated since no physical changes to the plant are being made. No new or different equipment is being installed, and no installed equipment is being operated in a different manner.

Therefore, the proposed TS change does not create the possibility of a new or different kind of accident from any previously evaluated.

3. Does the proposed change involve a significant reduction in a margin of safety?

Response: No.

The proposed TS change excludes the source range neutron flux instrument channel preamplifier from the CHANNEL CALIBRATION requirements for the source range neutron flux instrument channel. Based upon the current channel testing performed and the availability of alternate source range neutron flux indication for comparison, the operation of the source range neutron flux instrument channel is assured. The proposed TS change does not alter the design or function of the source range neutron flux instrument channels since no physical changes are being made to the plant.

Therefore, the proposed TS change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Stephen J. Campbell.

Northern States Power Company, Docket No. 50-263, Monticello Nuclear Generating Plant, Wright County, Minnesota

Date of Amendment Request: May 29, 2009.

Description of Amendment Request: The proposed amendment would revise Table 3.3.6.1-1, “Primary Containment Isolation Instrumentation,” of the Technical Specifications (TS) by adding operational Mode 3, in addition to Modes 1 and 2 currently specified, to the Standby Liquid Control (SLC) System initiation applicability under the Reactor Water Cleanup (RWCU) System. This change would have the effect of aligning the required modes of applicability for the RWCU System isolation function to SLC System initiation. This is correction of a discrepancy that exists between this table and Specification 3.1.7, “Standby Liquid Control (SLC) System,” which specifies that the applicability of the SLC System is for Modes 1, 2, and 3.

Basis for Proposed No Significant Hazards Consideration Determination: As required by 10 CFR 50.91(a), the licensee has provided its analysis of the issue of no significant hazards consideration, which is presented below:

1. Does the proposed amendment involve a significant increase in the probability or consequences of an accident previously evaluated?

Response: No.

The proposed change to the applicability of this function does not change the actual conditions, operating configurations, or minimum amount of operating equipment assumed in the safety analysis for accident mitigation.

The proposed change does not require any physical change to any plant systems, structures, or components nor does it require any change in systems or plant operations. The proposed change does not require any change in safety analysis methods or results. The SLC System is not an accident initiator. The proposed change to align the required modes of applicability for the RWCU isolation function on SLC initiation provide consistency with the previously NRC approved full-scope alternative source term (AST) analysis [Amendment No. 148] and hence do not involve a significant increase in the probability or consequences of an accident previously evaluated.

2. Does the proposed amendment create the possibility of a new or different kind of accident from any accident previously evaluated?

Response: No.

There are no hardware changes nor are there any changes in the method by which any plant systems perform a safety function. This request does not affect the normal method of plant operation.

The proposed change does not introduce new equipment, which could create a new or different kind of accident. No new equipment failure modes are created. No new accident scenarios failure mechanisms, or limiting single failures are introduced as a result of this request. Therefore, the implementation of the proposed change will not create a possibility for an accident of a new or different type than those previously evaluated.

3. Does the proposed amendment involve a significant reduction in a margin of safety?

Response: No.

There will be no change to the manner in which the SLC System or the RWCU System is operated. This change aligns the requirements in one part of the TS with requirements imposed in another portion of the TS. No new requirements are introduced. The proposed change improves the TS by removing an internal inconsistency and as such does not reduce or involve a significant reduction in a margin of safety.

The NRC staff has reviewed the licensee's analysis and, based on this review, it appears that the three standards of 10 CFR 50.92(c) are satisfied. Therefore, the NRC staff proposes to determine that the amendment request involves no significant hazards consideration.

Attorney for Licensee: Peter M. Glass, Assistant General Counsel, Xcel Energy Services, Inc., 414 Nicollet Mall, Minneapolis, MN 55401.

NRC Branch Chief: Lois M. James.

Tennessee Valley Authority, Docket Nos. 50-259, 50-260, and 50-296, Browns Ferry Nuclear Plant, Units 1, 2 and 3, Limestone County, Alabama

Date of Amendment Request: April 24, 2009 (TS-464).

Description of Amendment Request: The proposed changes would revise the Technical Specifications (TS) Bases sections 3.1.6, “Rod Pattern Control,” and 3.3.2.1, “Control Rod Block Instrumentation” to allow the Browns Ferry units to reference in the improved control rod banked position withdrawal sequence (BPWS) when performing a reactor shutdown. In addition, the proposed changes would add a footnote to TS Table 3.3.2.1-1, “Control Rod Block Instrumentation.”

Basis for Proposed No Significant Hazards Consideration Determination: As required by 10 CFR 50.91(a), the licensee has provided its analysis of the issue of no significant hazards consideration. Consistent with the consolidated line item improvement process (CLIIP) the licensee referenced the no significant hazards consideration published on May 23, 2007 (72 FR 29004) which is provided below:

Criterion 1: The Proposed Change Does Not Involve a Significant Increase in the Probability or Consequences of an Accident Previously Evaluated

The proposed changes modify the TS to allow the use of the improved banked position withdrawal sequence (BPWS) during shutdowns if the conditions of NEDO-33091-A, Revision 2, “Improved BPWS Control Rod Insertion Process,” July 2004, have been satisfied. The staff finds that the licensee's justifications to support the specific TS changes are consistent with the approved topical report and TSTF-476, Revision 1. Since the change only involves changes in control rod sequencing, the probability of an accident previously evaluated is not significantly increased, if at all. The consequences of an accident after adopting TSTF-476 are no different than the consequences of an accident prior to adopting TSTF-476. Therefore, the consequences of an accident previously evaluated are not significantly affected by this change. Therefore, this change does not involve a significant increase in the probability or consequences of an accident previously evaluated.

Criterion 2: The Proposed Change Does Not Create the Possibility of a New or Different Kind of Accident From Any Previously Evaluated.

The proposed change will not introduce new failure modes or effects and will not, in the absence of other unrelated failures, lead to an accident whose consequences exceed the consequences of accidents previously evaluated. The control rod drop accident (CRDA) is the design basis accident for the subject TS changes. This change does not create the possibility of a new or different kind of accident from an accident previously evaluated.

Criterion 3: The Proposed Change Does Not Involve a Significant Reduction in the Margin of Safety

The proposed change, TSTF-476, Revision 1, incorporates the improved BPWS, previously approved in NEDO-33091-A, into the improved TS. The control rod drop accident (CRDA) is the design basis accident for the subject TS changes. In order to minimize the impact of a CRDA, the BPWS process was developed to minimize control rod reactivity worth for BWR plants. The proposed improved BPWS further simplifies the control rod insertion process, and in order to evaluate it, the staff followed the guidelines of Standard Review Plan Section 15.4.9, and referred to General Design Criterion 28 of Appendix A to 10 CFR Part 50 as its regulatory requirement. The TSTF stated the improved BPWS provides the following benefits: (1) Allows the plant to reach the all-rods-in condition prior to significant reactor cool down, which reduces the potential for re-criticality as the reactor cools down; (2) reduces the potential for an operator reactivity control error by reducing the total number of control rod manipulations; (3) minimizes the need for manual scrams during plant shutdowns, resulting in less wear on control rod drive (CRD) system components and CRD mechanisms; and, (4) eliminates unnecessary control rod manipulations at low power, resulting in less wear on reactor manual control and CRD system components. The addition of procedural requirements and verifications specified in NEDO-33091-A, along with the proper use of the BPWS will prevent a control rod drop accident (CRDA) from occurring while power is below the low power setpoint (LPSP). The net change to the margin of safety is insignificant. Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: General Counsel, Tennessee Valley Authority, 400 West Summit Hill Drive, ET 11A, Knoxville, Tennessee 37902.

NRC Branch Chief: Thomas H. Boyce.

Union Electric Company, Docket No. 50-483, Callaway Plant, Unit 1, Callaway County, Missouri

Date of Amendment Request: May 4, 2009.

Description of Amendment Request: The proposed amendment would delete the working hours restrictions in paragraph d of Technical Specification (TS) 5.2.2, “Unit Staff.” The restrictions would be deleted because they are superseded by Title 10 of Code of Federal Regulations (CFR) Part 26, Subpart I, consistent with U.S. Nuclear Regulatory Commission (NRC)-approved TS Task Force (TSTF) change traveler TSTF-511, Revision 0, “Eliminate Working Hour Restrictions from TS 5.2.2 to Support Compliance with 10 CFR part 26.”

The NRC issued a “Notice of Availability of Model Safety Evaluation, Model No Significant Hazards Determination, and Model Application for Licensees That Wish to Adopt TSTF-511, Revision 0, ‘Eliminate Working Hour Restriction From TS 5.2.2 To Support Compliance with 10 CFR Part 26’ ” in Federal Register on December 30, 2008 (73 FR 79923). In its application dated May 4, 2009, the licensee affirmed the applicability of the model no significant hazards consideration.

Basis for Proposed No Significant Hazards Consideration Determination: As required by 10 CFR 50.91(a), the licensee has provided its analysis of the issue of no significant hazards consideration, which is presented below:

Criterion 1: Does the proposed amendment involve a significant increase in the probability or consequences of an accident previously evaluated?

Response: No.

The proposed change removes TS restrictions on working hours for personnel who perform safety related functions. The TS restrictions are superseded by the worker fatigue requirements in 10 CFR 26. Removal of the TS requirements will be performed concurrently with the implementation of the 10 CFR 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: Does the proposed amendment create the possibility of a new or different kind of accident from any accident previously evaluated?

Response: No.

The proposed change removes TS restrictions on working hours for personnel who perform safety related functions. The TS restrictions are superseded by the worker fatigue requirements in 10 CFR 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: Does the proposed amendment involve a significant reduction in a margin of safety?

Response: No.

The proposed change removes TS restrictions on working hours for personnel who perform safety related functions. The TS restrictions are superseded by the worker fatigue requirements in 10 CFR 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific TS administrative requirements will not reduce a margin of safety because the requirements in 10 CFR 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: John O'Neill, Esq., Pillsbury Winthrop Shaw Pittman LLP, 2300 N Street, NW., Washington, DC 20037.

NRC Branch Chief: Michael T. Markley.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Carolina Power & Light Company, et al., Docket No. 50-400, Shearon Harris Nuclear Power Plant, Unit 1, Wake and Chatham Counties, North Carolina

Date of Amendment Request: May 29, 2008, as supplemented by letters dated November 14 and December 11, 2008.

Description of Amendment Request: The proposed amendment would transition the fire protection program to a performance-based, risk-informed one based on the National Fire Protection Association (NFPA) Standard 805, “Performance-Based Standard for Fire Protection For Light Water Reactor Generating Plants,” 2001 Edition, in accordance with 10 CFR 50.48(c). NFPA 805 allows the use of performance-based methods, such as fire modeling, and risk-informed methods, such as Fire Probabilistic Risk Assessment, to demonstrate compliance with the nuclear safety performance criteria.

Date of Publication of Individual Notice in Federal Register: June 19, 2009 (74 FR 29241).

Expiration Date of Individual Notice: August 18, 2009.

Florida Power Corporation, et al., Docket No. 50-302, Crystal River Unit No. 3 Nuclear Generating Plant, Citrus County, Florida

Date of Amendment Request: June 3, 2008, as supplemented by letters dated November 17, 2008, and April 8 and May 22, 2009.

Brief Description of Amendment Request: The proposed amendment would revise the Crystal River Unit 3 (CR-3) Final Safety Analysis Report Sections 5.4.3, “Structural Design Criteria” and 5.4.5.3, “Missile Analysis,” to include a statement regarding the design of the east wall of the CR-3 Auxiliary Building. The amendment would change the methodology used to qualify the east wall of the Auxiliary Building. The current methodology used the methods in American Concrete Institute (ACI) Standard 318-63, “Building Code Requirements for Reinforced Concrete,” June 1963. The proposed methodology is based on ACI 349-97, “Code Requirements for Nuclear Safety Related Concrete Structures,” as endorsed by NRC's Standard Review Plan (NUREG 0800), Revision 2—March 2007, Section 3.8.4 “Other Seismic Category 1 Structures.”

Date of Publication of Individual Notice in Federal Register: June 23, 2008 (74 FR 29732).

Expiration Date of Individual Notice: August 24, 2009.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Carolina Power & Light Company, et al., Docket No. 50-400, Shearon Harris Nuclear Power Plant, Unit 1, Wake and Chatham Counties, North Carolina

Date of Application for Amendment: February 26, 2009.

Brief Description of Amendment: The proposed amendment would delete the Technical Specifications (TS) requirements related to hydrogen recombiners and hydrogen monitors. The proposed TS changes support implementation of the revisions to 10 CFR 50.44, “Standards for Combustible Gas Control System in Light-Water-Cooled Power Reactors,” which became effective on October 16, 2003. These changes are consistent with Revision 1 of the NRC-approved Technical Specifications Task Force (TSTF) Standard Technical Specification Change Traveler TSTF-447, “Elimination of Hydrogen Recombiners and Change to Hydrogen and Oxygen Monitors.” This technical specification improvement was initially made available in the Federal Register by the NRC on September 25, 2003 (68 FR 55416).

Date of Issuance: July 2, 2009.

Effective Date: Effective as of the date of issuance and shall be implemented within 90 days.

Amendment No.: 131.

Renewed Facility Operating License No. NPF-63: The amendment revises the Technical Specifications and Facility Operating License.

Date of Initial Notice in Federal Register: June 2, 2009 (74 FR 26431). The Commission's related evaluation of the amendment and final NSHC determination are contained in a safety evaluation dated July 2, 2009.

Public Comments Requested as to Proposed No Significant Hazards Consideration (NSHC): No.

Entergy Nuclear Vermont Yankee, LLC and Entergy Nuclear Operations, Inc., Docket No. 50-271, Vermont Yankee Nuclear Power Station, Vernon, Vermont

Date of Application for Amendment: February 24, 2009.

Brief Description of Amendment: The proposed amendment would revise the Technical Specification (TS) Surveillance Requirement (SR) that governs operability testing of the pressure suppression chamber-drywell vacuum breakers to incorporate the SR contained within the Standard Technical Specifications (STS), NUREG-1433 and delete the SR that requires inspection of the pressure suppression chamber-drywell vacuum breakers. This requirement is replaced with the STS SR 3.6.1.8.2 to perform operability testing within 12 hours after the discharge of steam into the suppression chamber from the safety/relief valves or following operation that causes any of the vacuum breakers to open.

Date of Issuance: July 6, 2009.

Effective Date: As of the date of issuance, and shall be implemented within 60 days.

Amendment No.: 238.

Facility Operating License No. DPR-28: Amendment revised the License and Technical Specifications.

Date of Initial Notice in Federal Register: April 7, 2009 (74 FR 15770).

No Significant Hazards Consideration Comments Received: No.

Entergy Nuclear Vermont Yankee, LLC and Entergy Nuclear Operations, Inc., Docket No. 50-271, Vermont Yankee Nuclear Power Station, Vernon, Vermont

Date of Application for Amendment: September 22, 2008, as supplemented by letter dated October 31, 2008.

Brief Description of Amendment: The proposed amendment would relocate the contents of the Vermont Yankee (VY) Technical Specification relating to the Reactor Building crane to the VY Technical Requirements Manual.

Date of Issuance: July 13, 2009.

Effective Date: As of the date of issuance, and shall be implemented within 60 days.

Amendment No.: 239.

Facility Operating License No. DPR-28: Amendment revised the License and Technical Specifications.

Date of initial notice in Federal Register: November 18, 2008 (73 FR 68454). The supplemental letter dated October 31, 2008, provided additional information that clarified the application, did not expand the scope of the application as originally noticed, and did not change the staff's original proposed no significant hazards consideration determination. The Commission's related evaluation of this amendment is contained in a Safety Evaluation dated July 13, 2009.

No Significant Hazards Consideration Comments Received: No.

Northern States Power Company—Minnesota, Docket No. 50-263, Monticello Nuclear Generating Plant, Wright County, Minnesota

Date of Application for Amendment: June 26, 2008, as supplemented on January 27 and July 2, 2009.

Brief Description of Amendment: The amendment revised the MNGP Technical Specifications (TS), changing the Required Actions and Completion Times in TS 3.5.1, “ECCS [Emergency Core Cooling System]—Operating,” to allow a 72-hour completion time to restore a low-pressure ECCS subsystem to operable status after discovery of two low-pressure ECCS subsystems inoperable.

Date of Issuance: July 10, 2009.

Effective Date: As of the date of issuance and shall be implemented within 90 days of issuance.

Amendment No.: 162.

Facility Operating License No. DPR-22: Amendment revised the Technical Specifications.

Date of Initial Notice in Federal Register: August 12, 2008 (73 FR 46930). The supplemental letters contained clarifying information and did not change the initial no significant hazards consideration determination, and did not expand the scope of the original Federal Register notice.

The Commission's related evaluation of the amendment is contained in a Safety Evaluation dated July 10, 2009.

No Significant Hazards Consideration Comments Received: No.

Northern States Power Company—Minnesota, Docket Nos. 50-282 and 50-306, Prairie Island Nuclear Generating Plant, Units 1 and 2, Goodhue County, Minnesota

Date of Application for Amendments: June 26, 2008, as supplemented by letters dated August 4, August 26, and November 14, 2008, and January 30, February 9, February 20, March 12, and May 4 (2 letters), 2009.

Brief Description of Amendments: The amendments revise the Technical Specifications (TSs) for Prairie Island Nuclear Generating Plant, Units 1 and 2, to allow the use of Westinghouse 422 VANTAGE+ nuclear fuel and make changes to certain references in the Design Features section of the TSs.

Date of Issuance: July 1, 2009.

Effective Date: As of the date of issuance and shall be implemented within 90 days.

Amendment Nos.: 192, 181.

Facility Operating License Nos. DPR-42 and DPR-60: Amendments revised the Technical Specifications.

Date of Initial Notice in Federal Register: September 23, 2008 (73 FR 54866). The supplemental letters contained clarifying information and did not change the initial no significant hazards consideration determination, and did not expand the scope of the original Federal Register notice.

The Commission's related evaluation of the amendments is contained in a Safety Evaluation dated July 1, 2009.

No Significant Hazards Consideration Comments Received: No.

PPL Susquehanna, LLC, Docket Nos. 50-387 and 50-388, Susquehanna Steam Electric Station, Units 1 and 2, Luzerne County, Pennsylvania

Date of Application for Amendments: February 20, 2009.

Brief Description of Amendments: The amendments modified Technical Specifications (TS) requirements related to control room envelope habitability in TS 3.7.3, “Plant Systems Control Room Emergency Outside Air Supply (CREOAS) System,” and TS Section 5.5, “Administrative Controls Programs and Manuals.”

Date of Issuance: July 6, 2009.

Effective Date: As of the date of issuance to be implemented within 180 days.

Amendment Nos.: 252 for Unit 1 and 232 for Unit 2.

Facility Operating License Nos. NPF-14 and NPF-22: The amendments revised the License and Technical Specifications.

Date of Initial Notice in Federal Register: April 21, 2009 (74 FR 18256).

The Commission's related evaluation of the amendments is contained in a Safety Evaluation dated July 6, 2009.

No Significant Hazards Consideration Comments Received: No.

PPL Susquehanna, LLC, Docket Nos. 50-387 and 50-388, Susquehanna Steam Electric Station, Units 1 and 2, Luzerne County, Pennsylvania

Date of Application for Amendments: March 24, 2009.

Brief Description of Amendments: The amendments deleted Technical Specification (TS) Section 5.2.2.e, which is superseded by Title 10 of the Code of Federal Regulations (10 CFR) Part 26, “Fitness For Duty Programs,” Subpart I, “Managing Fatigue.” This change is consistent with U.S. Nuclear Regulatory Commission approved Revision 0 to Technical Specification Task Force Improved Standard Technical Specification Change Traveler, TSTF-511, “Eliminate Working Hour Restrictions from TS 5.2.2 to Support Compliance with 10 CFR part 26.”

Date of Issuance: July 13, 2009.

Effective Date: As of the date of issuance and shall be implemented within 30 days.

Amendment Nos.: 253 for Unit 1 and 233 for Unit 2.

Facility Operating License Nos. NPF-14 and NPF-22: The amendments revised the Licenses and Technical Specifications.

Date of initial notice in Federal Register: May 5, 2009, (74 FR 20752). The Commission's related evaluation of the amendments is contained in a Safety Evaluation dated July 13, 2009.

No Significant Hazards Consideration Comments Received: No.

Dated at Rockville, Maryland, this 17th day of July 2009.
For The Nuclear Regulatory Commission.
Joseph G. Giitter,
Director, Division of Operating Reactor Licensing, Office of Nuclear Reactor Regulation.

[FR Doc. E9-17699 Filed 7-27-09; 8:45 am]

BILLING CODE 7590-01-P